DEPARTMENT OF THE INTERIOR

National Park Service

[NPS-WASO-NAGPRA-NPS0038014; PPWOCRADN0-PCU00RP14.R50000]

Notice of Inventory Completion: California State University, Sacramento, Sacramento, CA

AGENCY: National Park Service, Interior.

ACTION: Notice.

SUMMARY: In accordance with the Native American Graves Protection and Repatriation Act (NAGPRA), the California State University, Sacramento has completed an inventory of human remains and associated funerary objects and has determined that there is a cultural affiliation between the human remains and associated funerary objects and Indian Tribes or Native Hawaiian organizations in this notice.

DATES: Repatriation of the human remains and associated funerary objects in this notice may occur on or after July 3, 2024.

ADDRESSES: Dr. Mark Wheeler, Senior Advisor to President Luke Wood, California State University, Sacramento, 6000 J Street Sacramento, CA 95819, telephone (916) 460-0490, email mark.wheeler@csus.edu.

SUPPLEMENTARY INFORMATION: This notice is published as part of the National Park Service's administrative responsibilities under NAGPRA. The determinations in this notice are the sole responsibility of the California State University, Sacramento, and additional information on the determinations in this notice, including the results of consultation, can be found in the inventory or related records. The National Park Service is not responsible for the determinations in this notice.

Abstract of Information Available

In 1956-1959, archaeologists associated with Sacramento State College (now California State University, Sacramento) removed human remains and objects from CA-NAP-52, CA-NAP-74, CA-NAP-87, CA-NAP-94, CA-NAP-97, and CA-NAP-98 prior to the construction of Monticello Dam by the US Bureau of Reclamation. The resulting collections were subsequently housed at California State University, Sacramento under accessions 81-183, 81-184, and 81-185. Based on the information available, human remains representing, at least, two individuals have been reasonably identified from CA-NAP-52. The 127 associated funerary objects from the site include faunal remains, flaked and ground stone objects, modified bone, and shell beads and ornaments. Based on the information available, human remains were recovered from CA-NAP-74 prior to 1956 by another institution. The one associated funerary object is a ground stone mortar. Based on the information available, human remains representing, at least, one individual has been reasonably identified from CA-NAP-87. The 75 associated funerary objects include faunal remains, flaked and ground stone objects, modified bone, and unmodified stone. Based on the information available, human remains representing, at least, nine individuals have been reasonably identified from CA-NAP-94. The 5,710 associated funerary objects include faunal and floral remains; flaked and ground stone objects; modified bone, shell, and stone objects; pigments; soils; thermally-altered rock; quartz crystals; unmodified stone; and historic objects. Based on the information available, human remains representing, at least, nine individuals have been reasonably identified from CA-NAP-97. The 69 associated funerary objects include faunal remains, flaked and ground stone objects, modified bone, shell beads, unmodified stone, and soils. Based on the information available, human remains representing, at least, 19 individuals have been reasonably identified from CA-NAP-98. The 4,079 associated funerary objects include baked clay objects; faunal and floral remains; flaked and ground stone objects; modified bone, shell and stone; pigment; ash; soils; thermally-altered rock; quartz crystals; unmodified stone; and historic objects. An unknown number of objects may be missing from the collection, and California State University, Sacramento continues to look for them.

Based on the information available, human remains representing, at least, one individual has been reasonably identified from an unknown location(s) in Napa County. The 346 associated funerary objects include faunal and floral remains, flaked stone, and ground stone objects. These objects and human remains were found within Napa County collections (accession 81-183) without site provenience and are reasonably believed to derive from Napa County.

Based on the information available, human remains were recovered from CA-NAP-26 in by another institution in the 1950s. In 1960, a student of Sacramento State College surface collected objects from the location (accession 81-392). The 72 associated funerary objects include faunal remains and flaked stone objects. An unknown number of objects may be missing from the collection, and California State University, Sacramento continues to look for them.

Based on the information available, human remains representing, at least, one individual has been reasonably identified from an unknown location in Green Valley, Solano County. The five associated funerary objects include faunal remains, floral remains, and unmodified stone. The remains and objects were donated to California State University, Sacramento by a private individual under accession 1980-5. An unknown number of objects may be missing from the collection, and California State University, Sacramento continues to look for them.

Cultural Affiliation

Based on the information available and the results of consultation, cultural affiliation is clearly identified by the information available about the human remains and associated funerary objects described in this notice.

Determinations

The California State University, Sacramento has determined that:

• The human remains described in this notice represent the physical remains of 42 individuals of Native American ancestry.

• The 10,484 objects described in this notice are reasonably believed to have been placed intentionally with or near individual human remains at the time of death or later as part of the death rite or ceremony.

• There is a reasonable connection between the human remains and associated funerary objects described in this notice and the Cachil DeHe Band of Wintun Indians of the Colusa Indian Community of the Colusa Rancheria, California; Kletsel Dehe Wintun Nation of the Cortina Rancheria (previously listed as Kletsel Dehe Band of Wintun Indians); and the Yocha Dehe Wintun Nation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 3, 2024. If competing requests for repatriation are received, the California State University, Sacramento must determine the most appropriate requestor prior to repatriation. Requests for joint repatriation of the human remains and associated funerary objects are considered a single request and not competing requests. The California State University, Sacramento is responsible for sending a copy of this notice to the Indian Tribes and Native Hawaiian organizations identified in this notice.

Authority: Native American Graves Protection and Repatriation Act, 25 U.S.C. 3003, and the implementing regulations, 43 CFR 10.10.

Dated: May 22, 2024.
Melanie O'Brien,
Manager, National NAGPRA Program.

[FR Doc. 2024-12074 Filed 5-31-24; 8:45 am]

BILLING CODE 4312-52-P